DEPARTMENT OF TRANSPORTATION

Maritime Administration

[USCG-2006-26844]

Woodside Natural Gas Inc. OceanWay Secure Energy Liquefied Natural Gas Deepwater Port License Application

AGENCY: Maritime Administration, DOT.

ACTION: Notice of application.

SUMMARY: The Maritime Administration and the U.S. Coast Guard announce that they have received an application for the licensing of a natural gas deepwater port, and that the application appears to contain the required information to proceed. This notice summarizes the applicant's plans and the procedures that will be followed in considering the application.

DATES: The Deepwater Port Act of 1974, as amended, requires any public hearing on this application to be held not later than 240 days after this notice, and requires a decision on the application to be made not later than 90 days after the final public hearing.

ADDRESSES: The public docket for this application, USCG-2006-26844, is maintained by the: Department of Transportation, Docket Management Facility, 1200 New Jersey Avenue, SE., West Building, Ground Floor, Room W12-140, Washington, DC 20590.

Docket contents are available for public inspection and copying at this address between 9 a.m. and 5 p.m., Monday through Friday, except Federal holidays. The Facility's telephone number is 202-366-9329 and the fax number is 202-493-2251. The Web site for electronic submissions or for electronic access to docket contents is http://dms.dot.gov.

FOR FURTHER INFORMATION CONTACT: Roddy Bachman, U.S. Coast Guard, telephone: 202-372-1752, e-mail: Roddy.C.Bachman@uscg.mil. If you have questions on viewing the docket, call Renee V. Wright, Program Manager, Docket Operations, telephone: 202-493-0402.

SUPPLEMENTARY INFORMATION:

Receipt of Application

On August 17, 2006, the Coast Guard and the Maritime Administration received an application from Woodside Natural Gas Inc., a wholly-owned subsidiary of Woodside Petroleum LTD., for all Federal authorizations required for a license to own, construct, and operate a deepwater port authorized under the Deepwater Port Act of 1974, as amended, 33 U.S.C. 1501 et seq. (the Act). The City of Los Angeles (City) will be a cooperating agency in processing this application because Woodside Natural Gas, Inc. has filed an application for a lease/franchise of offshore submerged City lands, an onshore pipeline franchise for the subsea pipelines through City waters, and a pipeline through the City. Revisions to the application were received on December 27, 2006; on July 9, 2007; and again on August 20, 2007. As of the date of this notice, the Maritime Administration and the Coast Guard have determined that the application appears to contain all information required by the Act to proceed with the application process. The application is now available for viewing on the docket (see ADDRESSES).

Background

According to the Deepwater Port Act, a deepwater port is a fixed or floating manmade structure other than a vessel, or a group of structures, located beyond State seaward boundaries and used or intended for use as a port or terminal for the transportation, storage, and further handling of oil or natural gas for transportation to any State.

Deepwater ports require a license issued by the Maritime Administrator (by delegated authority from the Secretary of Transportation, published on June 18, 2003 (68 FR 36496)). Statutory and regulatory requirements for licensing appear in 33 U.S.C. 1501 et seq. and in 33 CFR Part 148. Under delegations from the Secretary of Transportation and the Secretary of Homeland Security, applications are processed by the Coast Guard and the Maritime Administration. Each application is considered on its merits.

The Act provides deadlines for processing applications. After determining that an application contains the required information, public hearings on the application must be held within 240 days, and the Maritime Administrator must render a decision on the application within 330 days. Additional Federal Register notices will be published throughout the application review process to provide notice of public hearings and other procedural milestones. The Maritime Administrator's decision, and other key documents, will be filed in the public docket.

At least one public hearing will take place in each adjacent coastal State. For purposes of the Act, California is the adjacent coastal State for this application. Other States can apply for adjacent coastal State status in accordance with 33 U.S.C. 1508(a)(2).

Summary of the Application/Proposed Action/Project

Woodside Natural Gas proposes to construct, own, and operate a deepwater port with associated ship-to-ship transfer (STS) location(s) and single point mooring (SPM) buoys for the receiving of regasification liquefied natural gas carriers (RLNGCs), offshore and onshore natural gas pipelines, and a receiving and custody transfer facility (RCTS) to deliver natural gas with an annualized rate of 0.4 billion cubic feet per day (bcf/d) and a peak of 1.1 bcf/d into the Southern California market on initial development and an annualized rate of 1.0 bcf/d and a peak of up to 1.6 bcf/d at full project development.

The deepwater port would be located in the Federal waters of the Santa Monica Basin, 21 miles from the nearest point on the mainland of Southern California and 18 miles from the western end of Santa Catalina Island, approximately 27 miles southwest of Los Angeles International Airport (LAX), in a water depth of approximately 3,000 feet. It would consist of two single point mooring (SPM) buoys that serve as cargo discharge system connections for RLNGCs, a mooring/anchoring array, four flexible risers that connect the SPMs to four seafloor riser end manifolds, two pipeline end manifolds (PLEMs) and two parallel 24-inch pipelines beginning on the seafloor at the PLEMs beneath the SPM buoys and continuing to shore. The SPMs would be located approximately 5 nautical miles (5.75 miles) outside established shipping lanes (SPM NE: Latitude: 33°41′52″ N, Longitude: 118°48′33″ W and SPM SW: Latitude: 33°39′58″ N, Longitude: 118°49′15″ W).

Woodside has proposed three ship-to-ship transfer locations ranging from approximately 35 to 90 nautical miles (40 to 104 miles) from shore and 55 to 111 nautical miles (63 to 128 miles) from the port where each RLNGC is expected to receive LNG cargo at sea from conventional LNG carriers. STS1 Santa Rosa (Latitude 33°39′ N, Longitude 119°56′30″ W), STS2 Inshore San Clemente (Latitude 33°05′ N, Longitude 118°10′ W) and STS3 Skaugen Offshore (Latitude 32°15′ N, Longitude 120°0′ W). Only one transfer location would be used at a time. The RLNGCs, with storage capacity of 224,000 m³ of LNG would be capable of receiving conventional LNG carriers (LNGCs) with storage capacities of up to 216,000 m³ of LNG.

As proposed, LNG would be delivered from overseas by LNGCs and transferred to a Woodside RLNGC at one of the three STS locations. The RLNGC would then be sailed and moored to a SPM, where the LNG would be regasified into natural gas and delivered to shore via two new parallel 24-inch pipelines. The RLNGC would then return to a STS location.

The RLNGCs would use a turret system with the SPMs to allow the RLNGC to weathervane (rotate) around the buoy. Onboard utilities and systems associated with RLNCG operations would include electric power generation and distribution, instrumentation and controls, and fire and safety systems. The RLNGC would include all marine systems, communications, navigation aids and equipment necessary to safely conduct RLNGC carrier operations, receive and vaporize product.

The RLNGCs would use a forced draft ambient air LNG vaporization system using a combination of intermediate fluid and direct ambient air with heat provided by ambient air called the Woodside Hybrid Air Vaporization (WHAV) concept.

Natural gas would be delivered onshore via two 24-inch parallel pipelines, approximately 35 miles in length. These pipelines would come onshore on the north end of LAX at Dockweiler Beach. It is proposed that horizontal directional drilling be used to install the pipelines beneath land and seabed in offshore City waters and underneath the beach and adjacent dunes from a point about 1000 feet inland from the high tide mark just east of Vista del Mar on LAX property.

Woodside would lease/franchise from the City a 300 foot wide corridor on submerged City lands out to the 3 nautical mile (3.45 mile) offshore limit of the City boundary. On-shore pipelines would be constructed on City-owned land from the high tide line to Pershing Drive, passing under the beach and the El Segundo Dunes, and underground through City streets. The route would include Westchester Parkway/Arbor Vitae Street, then south on Bellanca Avenue to the receiving and custody transfer station (RCTS) and adjacent Inert Gas Injection Facility (IGIF) located at 5651 96th Street, Los Angeles, about 4 miles inland. A single 36-inch pipeline would run approximately a quarter of a mile back north on Bellanca Avenue to Arbor Vitae, then to the existing Southern California Gas natural gas pipeline infrastructure with Tie-in #1 at the intersection of Aviation Boulevard and Arbor Vitae Street. A second stage, with development depending on demand, may include additional pipelines and tie-ins that are an approximate 11-mile single 24-inch line from Tie-In #1 along Arbor Vitae, Prairie, Manchester, Firestone, and California to Tie-In #3 at Santa Ana Street and Otis Avenue in Huntington Park and an approximate 1 mile single 24-inch line from Manchester Street to Central Ave to Tie-In #2 at the intersection of S. Central Avenue and E. Century Boulevard. These pipeline routes include running through the cities of Los Angeles, Inglewood, South Gate and Huntington Park. At full development, Southern California Gas would own and operate the system downstream of the RCTS.

The application also includes an alternative DWP location in the Gulf of Santa Catalina approximately 30 miles from Huntington Beach at latitude 117°56′28.53″ west, longitude 33°13′24.88″ north with a 30 mile pipeline running north to a shore crossing at the AES power plant in Huntington Beach. It would cross through the cities of Huntington Beach, Fountain Valley, Westminster, Garden Grove, Santa Anna, and Orange. The pipeline would be trenched through city streets traveling north along Newland Street towards Bolsa Avenue; turn east at Bolsa Ave. (1st Street); turn north at the OCTA Metrolink Right of Way and join Lincoln Ave; east on Fairhaven Ave.; north at Cambridge Street; and finally west on Palm Ave. where the pipeline would connect to the SCG tie-in in Orange.

(Authority: 49 CFR 1.66)

By Order of the Maritime Administrator.
Dated: August 31, 2007.
Daron T. Threet,
Secretary, Maritime Administration.

[FR Doc. E7-17649 Filed 9-6-07; 8:45 am]

BILLING CODE 4910-81-P